DEPARTMENT OF HOMELAND SECURITY

Federal Radiological Preparedness Coordinating Committee; Meeting

AGENCY: Federal Emergency Management Agency, DHS.

ACTION: Notice of public meeting.

SUMMARY: The Federal Radiological Preparedness Coordinating Committee (FRPCC) is holding a public meeting on April 14, 2009 in Washington, DC.

DATES: The meeting will take place on April 14, 2009, from 9 a.m. to 11 a.m. Send written statements and requests to make oral statements to the contact person listed below by close of business April 6, 2009.

ADDRESSES: The meeting will be held in the “Discovery II” meeting room at the Holiday Inn Capitol, 550 C Street SW., Washington, DC 20024.

FOR FURTHER INFORMATION CONTACT: Timothy Greten, FRPCC Executive Secretary, DHS/FEMA, South Bell Street—CC847, Mail Stop 3025, Arlington, VA 20598-3025; telephone (202) 646-3907; fax (703) 305-0837; or e-mail timothy.greten@dhs.gov.

SUPPLEMENTARY INFORMATION: The role and functions of the Federal Radiological Preparedness Coordinating Committee (FRPCC) are described in 44 CFR parts 351.10(a) and 351.11(a). The FRPCC is holding a public meeting on April 14, 2009, from 9 a.m. to 11 a.m., at the Holiday Inn Capitol, in Washington, DC. Please note that the meeting may close early. This meeting is open to the public, subject to the availability of space. Public meeting participants must pre-register to be admitted to the meeting. To pre-register, please provide your name and telephone number by close of business on April 6, 2009, to the contact person listed above.

The tentative agenda for the FRPCC meeting includes: (1) Introductions, (2) reports from FRPCC Subcommittees, (3) old business and new business, and (4) business from the floor. The FRPCC Chair shall conduct the meeting in a way that will facilitate the orderly conduct of business. Reasonable provisions will be made, if time permits, for oral statements from the public of not more than five minutes in length. Any member of the public who wishes to make an oral statement at the meeting should send a written request for time by close of business on April 6, 2009, to the contact person listed above. Any member of the public who wishes to file a written statement with the FRPCC should provide the statement by close of business on April 6, 2009, to the contact person listed above.

Information on Services for Individuals With Disabilities

For information on facilities or services for individuals with disabilities or to request special assistance at the meeting, please write or call the contact person listed above as soon as possible.

Authority: 44 CFR 351.10(a) and 351.11(a).

Dated: March 16, 2009.
James R. Kish,
Director, Technological Hazards Division, National Preparedness Directorate, Department of Homeland Security, Federal Emergency Management Agency, Chair, Federal Radiological Preparedness Coordinating Committee.

[FR Doc. E9-6652 Filed 3-24-09; 8:45 am]

BILLING CODE 9110-21-P